ENVIRONMENTAL PROTECTION AGENCY

[FRL-9189-5; EPA-HQ-OEI-2010-0263]

Establishment of a New System of Records for Personal Information Collected by the Environmental Protection Agency When Certifying Pesticide Applicators

AGENCY: Environmental Protection Agency.

ACTION: Notice.

SUMMARY: The Environmental Protection Agency's (EPA) Office of Pesticide Programs, Field & External Affairs Division, is giving notice that it proposes to create a new system of records pursuant to the provisions of the Privacy Act of 1974 (5 U.S.C. 552a). This system of records contains personal information collected when EPA certifies persons to apply restricted use pesticides (RUPs).

DATES: Persons wishing to comment on this new system of records notice must do so by September 22, 2010.

ADDRESSES: Submit your comments, identified by Docket ID No. EPA-HQ-2010-0263, by one of the following methods:

• http://www.regulations.gov: Follow the online instructions for submitting comments.

• E-mail: oei.docket@epa.gov.

• Fax: 202-566-1752.

• Mail: OEI Docket, Environmental Protection Agency, Mail code: 2822T, 1200 Pennsylvania Ave., NW., Washington, DC 20460.

• Hand Delivery: OEI Docket, EPA/DC, EPA West Building, Room 3334, 1301 Constitution Ave., NW., Washington, DC. Such deliveries are only accepted during the docket's normal hours of operation, and special arrangements should be made for deliveries of boxed information.

Instructions: Direct your comments to Docket ID No. EPA-HQ-OEI-2010-0263. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available (e.g., CBI or other information for which disclosure is restricted by statute). Certain other material, such as copyrighted material, will be publicly available only in hard copy. Publicly available docket materials are available either electronically in http://www.regulations.gov or in hard copy at the OEI Docket, EPA/DC, EPA West Building, Room 3334, 1301 Constitution Ave., NW., Washington, DC. The Public Reading Room is open from 8:30 a.m. to 4:30 p.m., Monday through Friday excluding legal holidays. The telephone number for the Public Reading Room is (202) 566-1744, and the telephone number for the OEI Docket is (202) 566-1745.

FOR FURTHER INFORMATION CONTACT: Jenna Carter, Office of Pesticide Programs, Field & External Affairs Division, U.S. Environmental Protection Agency, Mail Code 7506P, 1200 Pennsylvania Ave., NW., Washington, DC 20460; telephone number 703-308-8370.

SUPPLEMENTARY INFORMATION:

I. General Information

The U.S. Environmental Protection Agency plans to create a Privacy Act system of records to document the Agency's decisions on applications filed requesting certification to apply restricted use pesticides (RUP) under certification plans administered by EPA regional offices or the Office of Pesticide Programs. The types of information in the system include: (1) Contact information (e.g., name, address, telephone number, e-mail address); (2) identification information (e.g., birth date, proof of identification (e.g., driver's license no.)), physical description (e.g., height, weight, gender, race)) (3) certification information (e.g., EPA certified applicator number, certification type (private or commercial), certification categories (e.g., aerial, aquatic, fumigation), certification issuance and expiration dates, and (4) information regarding qualifications (e.g., scores from EPA certification examinations; records of training and continuing education; state, tribal or other federal agency certification number(s), types, categories, issuance and expiration dates; records of compliance with federal, state and tribal pesticide laws). Some of this information is provided by the pesticide applicators applying for EPA certification, and some is generated during the certification process.

The above information will be contained in one or more databases (such as Lotus Notes) that reside on servers in EPA offices. The database(s) may be specific to one particular pesticide applicator certification plan, or may encompass several EPA pesticide applicator certification plans. Records maintained in the database will include applications, certifications, Agency decisions and correspondence related to applicators seeking and maintaining EPA certifications.

Records protected under the Privacy Act are subject to Agency-wide security requirements governing all database systems at EPA. Privacy is maintained by limiting access to database systems containing personal information. Access to any such database system is limited to system administrators, individuals responsible for evaluating the applications and issuing the EPA certification, and program personnel responsible for data entry. Physical access to the area where certifications are processed is limited to EPA employees with building key cards. Paper applications are stored in a locked cabinet when not in use. System administrators will routinely disclose certain personal information (e.g., names, addresses, EPA certification numbers, categories of certification) upon request. EPA's Office of Pesticide Programs, Field & External Affairs Division, will exercise general oversight of the system of records associated with EPA-administered pesticide applicator certification plans; databases for particular pesticide applicator certification plans may be maintained by EPA regional offices and other divisions of the Office of Pesticide Programs as authorized by the Field & External Affairs Division.

Dated: July 19, 2010.
Linda A. Travers,
Principal Deputy Assistant Administrator and Deputy Chief Information Officer.

EPA-59

System Name:

Records of Pesticide Applicators Certified Under EPA-Administered Certification Plans

System Location:

USEPA, Office of Pesticide Programs, Field & External Affairs Division, Mail Code 7506P, 1200 Pennsylvania Ave., NW., Washington, DC 20460, and other EPA offices authorized by the Field & External Affairs Division to maintain portions of the system.

Categories of Individuals Covered by the System:

Persons certified or seeking certification to apply restricted use pesticides (RUPs) under Certification Plans administered by EPA.

Categories of Records in the System:

(a) Contact information (e.g., name, address, telephone number, email address).

(b) Identification information (e.g., birth date, proof of identification (e.g., driver's license no.), physical description (e.g., height, weight, gender, race)).

(c) Data generated by EPA in the processing of the EPA certification (e.g., EPA certified applicator number, certification type (private or commercial), certification categories (e.g., aerial, aquatic, fumigation), certification issuance and expiration dates).

(d) Information regarding qualifications (e.g., scores from EPA certification examinations; records of training and continuing education; state, tribal or other federal agency certification number(s), types, categories, issuance and expiration dates; records of compliance with federal, state and tribal pesticide laws).

Authority for Maintenance of the System (Includes Any Revisions or Amendments):

Federal Insecticide, Fungicide, and Rodenticide Act (FIFRA) Section 11(a)(1) provides for the certification of RUP applicators. 40 CFR 171.11 further describes certification procedures including the completion and submission of certification applications to EPA, issuance/revocation of certificates, monitoring of certifications, and applicator recordkeeping requirements.

Purpose(s):

The primary purpose of the system is to track RUP applicator certifications issued by EPA under pesticide applicator certification plans, including the initial applications/issuance and any renewals, denials, or revocations of certifications. Certified applicators are subject to RUP recordkeeping requirements under FIFRA, section 11 and 40 CFR part 171. The system may also be used to contribute to the development of inspection targeting schemes to verify compliance with recordkeeping requirements for RUPs.

Routine Uses of Records Maintained in the System, Including Categories of Users, and the Purposes of Such Uses:

RUPs may not be distributed, sold, or made available to persons other than certified applicators. The system will be used to record the identity and certification status of pesticide applicators certified by EPA. Certain personal information contained in the system (e.g., date of birth, drivers' license numbers) will be protected from general disclosure under the Privacy Act: however, many of the records will be subject to general routine uses (http://www.epa.gov/privacy/notice/general.htm), particularly routine uses A, B, C, F, G, H, and K. Such routine uses will include disclosures to RUP retailers and dealers in order to verify the status of persons claiming to be certified by EPA, and to state or tribal officials intending to grant certifications based upon EPA's prior certification. Information from this system also may be disclosed for law enforcement purposes to federal, state, and tribal officials responsible for pesticide enforcement. Disclosure will assist in determining compliance and non-compliance with Federal, State, and tribal requirements of certified applicators.

Policies and Practices for Storing, Retrieving, Accessing, Retaining, and Disposing of Records in the System:

• Storage: Records will be stored using the Agency's standard database system (e.g., Lotus Notes) and managed by system administrators and Pesticide Office personnel.

• Retrievability: Data will be retrieved by the applicator's name and certification action (e.g., new, recertification, duplicate).

• Safeguards:

—Standard Agency-wide protections for internal databases.

—The access control list is limited to Agency system administrators, individuals responsible for evaluating applications and issuing the EPA certifications and program personnel responsible for data entry. No other EPA personnel have access to the database(s). Program personnel are trained to protect sensitive and confidential information submitted under FIFRA. No external access to the system is provided.

• Retention and Disposal: Records stored in this system are subject to Schedule 090.

• System Manager(s) and Address: Jenna Carter, Office of Pesticide Programs, Field & External Affairs Division, U.S. Environmental Protection Agency, Mail Code 7506P, 1200 Pennsylvania Ave., NW., Washington, DC 20460; telephone number 703-308-8370.

Notification Procedures:

Requests to determine whether this system of records contains a record pertaining to you must be sent to the Agency's Freedom of Information Office. The address is: U.S. Environmental Protection Agency; 1200 Pennsylvania Ave., NW., Room 6416 West; Washington, DC 20460; (202) 566-1667; E-mail: (hq.foia@epa.gov); Attn: Privacy Act Officer.

Record Access Procedures:

Persons seeking access to their own personal information in this system of records will be required to provide adequate identification (e.g., driver's license, military identification card, employee badge or identification card) and, if necessary, proof of authority. Additional identity verification procedures may be required as warranted. Requests must meet the requirements of EPA regulations at 40 CFR part 16.

Contesting Records Procedures:

Requests for correction or amendment must identify the record to be changed and the corrective action sought. Complete EPA Privacy Act procedures are set out at 40 CFR part 16.

Record Source Categories:

There are three sources of data for records stored in the system:

(1) State, tribal or other Federal certification data upon which the EPA certification is based.

(2) Data provided by the requesting applicator at the time of its request for EPA certification.

(3) Data generated by EPA in the processing of the EPA certification.

System exempted from certain provisions of the Privacy Act:

None.

[FR Doc. 2010-20081 Filed 8-12-10; 8:45 am]

BILLING CODE 6560-50-P